DEPARTMENT OF ENERGY

Federal Energy Regulatory Commission

[Project No. P-14743-000]

ORPC Maine, LLC; Notice of Preliminary Permit Application Accepted for Filing and Soliciting Comments, Motions To Intervene, and Competing Applications

On December 4, 2015, ORPC Maine, LLC (ORPC Maine) filed an application for a preliminary permit, pursuant to section 4(f) of the Federal Power Act (FPA), proposing to study the feasibility of the Western Passage Tidal Energy Project No. 14743 (Western Passage Project) to be located in Western Passage, near the City of Eastport, Washington County, Maine. The sole purpose of a preliminary permit, if issued, is to grant the permit holder priority to file a license application during the permit term. A preliminary permit does not authorize the permit holder to perform any land-disturbing activities or otherwise enter upon lands or waters owned by others without the owners' express permission.

The proposed project would consist of: (1) 15 double TidGen® TGU hydrokinetic tidal devices, each consisting of a 500-kilowatt turbine-generator unit for a combined capacity of 5,000 kilowatts; (2) an anchoring support structure; (3) a mooring system; (4) a 3,900 to 4,200-foot-long submersible cable connecting the turbine-generator units to a shore station; (5) a 1,900 to 4,600-foot-long, 4.16- to 12.7-kilovolt transmission line connecting the shore station to an existing distribution line; and (6) appurtenant facilities. The estimated average annual generation of the Western Passage Project would be 2.6 to 3.53 gigawatt-hours. There are no federal lands associated with the project.

Applicant Contact: Christopher R. Sauer, President and CEO, Ocean Renewable Power Company, LLC, 66 Pearl Street, Suite 301, Portland, Maine 04101; phone: (207) 772-7707.

FERC Contact: Michael Watts; phone: (202) 502-6123; email: michael.watts@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14743-000.

More information about this project, including a copy of the application, can be viewed or printed on the “eLibrary” link of Commission's Web site at http://www.ferc.gov/docs-filing/elibrary.asp. Enter the docket number (P-14743) in the docket number field to access the document. For assistance, contact FERC Online Support.

Dated: January 14, 2016.
Nathaniel J. Davis, Sr.,
Deputy Secretary.

[FR Doc. 2016-01124 Filed 1-20-16; 8:45 am]

BILLING CODE 6717-01-P